ENVIRONMENTAL PROTECTION AGENCY

[EPA-R06-OW-2025-0307; FRL-12770-01-R6]

Proposed Modification of NPDES General Permit for New and Existing Sources and New Dischargers in the Offshore Subcategory of the Oil and Gas Extraction Category for the Western Portion of the Outer Continental Shelf of the Gulf of America (GMG290000)

AGENCY: Environmental Protection Agency (EPA).

ACTION: Notice of proposed modification of NPDES General Permit.

SUMMARY: The Regional Administrator of Region 6 is seeking comments on a proposed narrow modification to the National Pollutant Discharge Elimination System (NPDES) General Permit No. GMG290000 for existing and new sources and new dischargers in the Offshore Subcategory of the Oil and Gas Extraction Point Source Category, located in and discharging to the Outer Continental Shelf offshore of Louisiana and Texas. The discharge of produced water to that portion of the Outer Continental Shelf from Offshore Subcategory facilities located in the territorial seas of Louisiana and Texas is also authorized by this permit. The proposed modification: changes the compliance date for acute Whole Effluent Toxicity (WET) limitations for Well Treatment Fluids, Completion Fluids, and Workover Fluids (TCW) discharges; change the name “Gulf of Mexico” to “Gulf of America”; and, adds duration of discharge reporting requirements for TCW fluids. The current compliance schedule to meet acute WET limitations for TCW discharges ended May 11, 2025. The proposed modification changes the final date for compliance with these WET limitations to May 11, 2028, which is the end of the permit term. Region 6 is also seeking comments on the Draft Environmental Assessment (EA) and Preliminary Finding of No Significant Impact (FONSI) during the 60-day public comment period for this general permit. The Draft EA addresses potential impacts from proposed modification to the general permit. EPA is not reopening any other conditions of this permit as a part of this modification.

DATES: Comments must be submitted in writing to EPA on or before March 30, 2026. A virtual public hearing will be held. More information on the date and how to participate will be posted on the EPA public notices web pages for Texas and Louisiana at https://www.epa.gov/publicnotices at least 30 days prior to the virtual public hearing.

Proposed Documents: A draft permit, fact sheet, draft Environmental Assessment (EA) and preliminary Finding of No Significant Impact (FONSI), and other supporting documents are available online via the docket for this action at: https://www.regulations.gov or on EPA public notices web pages for Texas and Louisiana at: https://www.epa.gov/publicnotices/notices-search.

To obtain hard copies of these documents or any other information in the administrative record, please email R6NPDES@epa.gov.

Other Legal Requirements: Other statutory and regulatory requirements are discussed in the fact sheet that include: Oil Spill Requirement; Ocean Discharge Criteria Evaluation; Marine Protection, Research, and Sanctuaries Act; National Environmental Policy Act; Magnuson-Stevens Fisheries Conservation and Management Act; Endangered Species Act; State Water Quality Standards and State Certification; Coastal Zone Management Act; Paperwork Reduction Act; Regulatory Flexibility Act; National Historic Preservation Act; Offshore Subcategory of the Oil and Gas Extraction Point Source Category; 40 CFR 122.62; 40 CFR 124.13; and 40 CFR 124.5(c)(2).

How do I comment on this proposal?

Comment Submittals: You may send comments, identified by Docket ID. No. EPA-R06-OW-2025-0307; by any of the following methods:

• Federal eRulemaking Portal: https://www.regulations.gov/ (our preferred method).

• By Email: Send comments by email to R6NPDES@epa.gov. Include Docket ID. No. EPA-R06-OW-2025-0307; in the subject line of the email.

• By Mail/Hand Delivery/Courier: Deliver comments to U.S. EPA, Attn: 6WDPE, 1201 Elm Street, Dallas, Texas 75270.

• We encourage the public to submit comments via www.Regulations.gov or via email.

• Please submit your comments within the specified time period cited in the DATES section of this document. Comments received after the close of the comment period will be marked “late”. The EPA is not required to consider these late comments. All comments received by the EPA in accordance with this section by the ending date of the comment period will be considered by the EPA before a final decision is made regarding permit issuance.

• Once submitted, comments cannot be edited or removed from the docket. The EPA may publish any comment received to its public docket.

Do not submit to EPA's docket or email any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Administrative record: All documents and references used in the development of this permit are part of the Administrative Record for this permit. Although listed in the index, some information is not publicly available, e.g., CBI or other information whose disclosure is restricted by statute. Certain other material, such as copyrighted material, will be publicly available only in hard copy. Publicly available materials are available either electronically or in hard copy from R6NPDES@epa.gov. The Administrative Record may also be viewed at the EPA Region 6 Offices from 8:30 a.m. to 4:30 p.m., Monday through Friday, excluding legal holidays. For more information on scheduling a time to view the Record or to obtain copies of available documents, please email R6NPDES@epa.gov.

Authority: Clean Water Act, 33 U.S.C. 1251 et seq.

Troy Hill,
Director, Water Division, EPA Region 6.

[FR Doc. 2026-01469 Filed 1-26-26; 8:45 am]

BILLING CODE 6560-50-P